DEPARTMENT OF THE INTERIOR

National Park Service

Notice, Continuation of Visitor Services

AGENCY: National Park Service, Interior.

ACTION: Public notice.

SUMMARY: Pursuant to 36 CFR 51.23, public notice is hereby given that the National Park Service proposes to extend the following expiring concession contract for a period of up to one year, or until such time as a new contract is excuted, whichever occurs sooner.

SUPPLEMENTARY INFORMATION: The listed concession authorization will expire by its terms on or before February 28, 2005. The National Park Service has determined that the proposed short-term extension is necessary in order to avoid interruption of visitor services and has taken all reasonable and aappropriate steps to consider alternatives to avoid such interruption. This extension will allow the National Park Service to complete and issue a prospectus leading to the competitive selection of a concessioners for a new long-term concession contract covering this operation.

Conc ID No. | Concessioner name | Park
LAME017 | Forever Resorts | Lake Mead NRA.
YELL001 | Medcore, Inc. (West Park Hospital/Yellowstone Park Me. Serv. (Medcore)) | Yellowstone NP.

EFFECTIVE DATE: February 28, 2005.

FOR FURTHER INFORMATION CONTACT: Jo A. Pendry, Concession Program Manager, National Park Service, Washington, DC, 20240, Telephone 202/513-7156.

Dated: December 17, 2004.
Alfred J. Pool, III
Acting Associate Director, Administration, Business Practices and Workforce Development.

[FR Doc. 05-3341 Filed 2-18-05; 8:45 am]

BILLING CODE 4312-53-M